DEPARTMENT OF HOMELAND SECURITY

Office of the Secretary

[Docket No. DHS-2011-0062]

Privacy Act of 1974; Department of Homeland Security United States Coast Guard DHS/USCG-027 Recruiting Files System of Records

AGENCY: Privacy Office, DHS.

ACTION: Notice of Privacy Act system of records.

SUMMARY: In accordance with the Privacy Act of 1974 the Department of Homeland Security proposes to update and reissue an existing Department of Homeland Security system of records titled, “Department of Homeland Security/United States Coast Guard-027 Recruiting Files System of Records.” This system of records allows the Department of Homeland Security/United States Coast Guard to collect and maintain records regarding its enlistee recruiting program. As a result of the required biennial review of this system, category of records and retention and disposal have been updated and one routine use has been added to allow for sharing with Department of Defense. This updated system will replace the existing system of records.

DATES: Submit comments on or before September 9, 2011. This new system will be effective September 9, 2011.

ADDRESSES: You may submit comments, identified by docket number DHS-2011-0062 by one of the following methods:

• Federal e-Rulemaking Portal: http://www.regulations.gov. Follow the instructions for submitting comments.

• Fax: 1-703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received, go to http://www.regulations.gov.

FOR FURTHER INFORMATION CONTACT: For general questions please contact: Marilyn Scott-Perez (202-475-3515), Privacy Officer, United States Coast Guard, 2100 2nd Street, SW., Stop 7101, Washington, DC 20593. For privacy issues please contact: Mary Ellen Callahan (703-235-0780), Chief Privacy Officer, Privacy Office, U.S. Department of Homeland Security, Washington, DC 20528.

SUPPLEMENTARY INFORMATION:

I. Background

In accordance with the Privacy Act of 1974, 5 U.S.C. 552a, the Department of Homeland Security (DHS) United States Coast Guard (USCG) proposes to update and reissue an existing DHS system of records titled, “DHS/United States Coast Guard-027 Recruiting Files System of Records.” This record system will allow DHS/USCG to collect and preserve records related to the recruiting program. The collection and maintenance of this information will assist DHS/USCG in meeting its obligation to administer the USCG's recruiting program.

As a result of the biennial review of this system, records have been updated in the “Categories of Records in the system” section to include an individual's home address. The “Retention and disposal” category was amended to reflect:

• Completed Coast Guard Selection Test (CGST), including Short Basic Test Battery (SBTB) answer sheets sent to Coast Guard Institute by Recruiting Offices are destroyed when two years old (SSIC 1500 Item 17a, (NC1-26-80-4, item 338j(1)) and 17b (NC1-26-80-4, item 338j(2))).

• Officer candidate files for selected applicants are filed in the permanent Official Military Personnel Folder (SSIC 1100, item 1a, NC1-26-76-2, item 583a). Files for non-selected applicants are destroyed six months after deadline dates for class which application is made (SSIC1100, item 1b, NC1-26-76-2, item 583b). Direct Commission Programs Applicant files; selected applicants records are filed in the permanent Official Military Personnel Folder (SSIC 1100, item 2a, NC1-26-79-2, item 584a); non-selected applicants files are destroyed one year from date of board by which considered (SSIC 1100, item 2b, NC1-26-79-2, item 584b). OCS and direct commission applicant files containing copies of applications for appointment in the Coast Guard Reserve are destroyed when one year old (SSIC 100, Item 3b, NC1-26-80-4, item 337b).

• Recruiting office jackets of successful and unsuccessful applicants for enlistment are destroyed one year after enlistment or rejection (SSIC 1100, Item 3a, NC1-26-80-4, item 337a).

• General information files with the recruiting and enlistment are destroyed after two years (SSIC 1100 item 4, NC1-26-76-2, Item 587).

One routine use (I) was added to allow DHS to share these records with officials and employees of the Department of Defense in the performance of their official duties related to the qualification of applicants for enlistment or commissioning, and for the analysis of and recordation of military forces levels.

II. Privacy Act

The Privacy Act embodies fair information principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/United States Coast Guard-027 Recruiting Files System of Records.

In accordance with 5 U.S.C. 552a(r), DHS has provided a report of this system of records to the Office of Management and Budget and to Congress.

System of Records

DHS/USCG-027

System name:

DHS/USCG-027 Recruiting Files System of Records.

Security classification:

Unclassified.

System location:

Records are maintained within the Recruiting Analysis and Tracking System (RATS) at the United States Coast Guard Recruiting Command, Arlington, Virginia, United States Coast Guard Operations Systems Center, Kearneysville, West Virginia, USCG Headquarters in Washington, DC, and field offices.

Categories of individuals covered by the system:

Categories of individuals covered by this system include records and correspondence pertaining to prospective applicants, applicants for regular and reserve enlisted and officer programs, and any other individuals who have initiated correspondence pertaining to enlistment in the United States Coast Guard. This system also covers civilians and military personnel who have taken the following tests: Armed Services Vocational Aptitude Battery; United States Navy Officer Qualification Test; OQT; United States Navy and United States Marine Corps Aviation Selection Test, AST; United States Navy Basic Test Battery (BTB), BTB (retests); the Cooperative Tests for Advanced Electronic Training (AET TESTS); the 16 Personality Fact Test used for screening of enlisted personnel for recruiting duty; and Professional Examination for Merchant Mariners.

Categories of records in the system:

Categories of records in this system include:

• Individual's name;

• Individual's home address;

• Date of birth;

• Social security number;

• Program of interest;

• Citizenship;

• Marital status;

• Race;

• Ethnicity;

• Gender;

• Personal history;

• E-mail and phone contact information;

• Education;

• Test scores, college majors, grades and transcripts;

• Professional qualifications;

• Adverse or disqualifying information, such as criminal record, medical data, and credit history;

• Mental aptitude;

• Medical documentation;

• Medical waivers;

• Physical qualifications;

• Character and interview appraisals;

• National Agency Checks and certifications;

• Service performance;

• Advertising responses;

• Applicant initiated inquiries;

• Congressional or special interests;

• Marketing data collected through the USCG recruiting Web site and telephone queries made by prospects; and

• Credit report results (per Homeland Security Presidential Directive-12).

Authority for maintenance of the system:

5 U.S.C. 301; 10 U.S.C. 503; 14 U.S.C. 350-373, 632; COMDTINST M1100.2E, Coast Guard Recruiting Manual.

Purpose(s):

The purpose of this system is to document recruiting efforts and maintain recruiting files for the United States Coast Guard and United States Coast Guard Reserves. This system also provides test results if an applicant (military or civilian) applies for an officer program, or is already in the military and is recruited to a training program.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (DOJ), including U.S. Attorney Offices, or other Federal agency conducting litigation or in proceedings before any court, adjudicative or administrative body, when it is necessary to the litigation and one of the following is a party to the litigation and one of the following is a party to the litigation or has an interest in such litigation:

1. DHS or any component thereof;

2. Any employee of DHS in his/her official capacity;

3. Any employee of DHS in his/her individual capacity where DOJ or DHS has agreed to represent the employee; or

4. The U.S. or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration (NARA) or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, state, Tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To officials and employees of the Veterans Administration and Selective Service System in the performance of their official duties related to enlistment and reenlistment eligibility and related benefits.

I. To officials and employees of the Department of Defense in the performance of their official duties related to the qualification of applicants for enlistment or commissioning, and for the analysis of and recordation of military force levels.

J. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved alphabetically by name and social security number.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions. The system maintains a real-time auditing function of individuals who access the system.

Retention and disposal:

Completed Coast Guard Selection Test (CGST), including Short Basic Test Battery (SBTB) answer sheets sent to Coast Guard Institute by Recruiting Offices are destroyed when two years old (SSIC 1500 Item 17a, (NC1-26-80-4, item 338j(1)) and 17b (NC1-26-80-4, item 338j(2))).

Officer candidate files for selected applicants are filed in the permanent Official Military Personnel Folder (SSIC 1100, item 1a, NC1-26-76-2, item 583a) Files for non-selected applicants are destroyed 6 months after deadline dates for class which application is made (SSIC1100, item 1b, NC1-26-76-2, item 583b) Direct Commission Programs Applicant files; selected applicants records are filed in the permanent Official Military Personnel Folder (SSIC 1100, item 2a, NC1-26-79-2, item 584a); Non-selected Applicants files are destroyed 1 year from date of board by which considered. (SSIC 1100, item 2b, NC1-26-79-2, item 584b) OCS and direct commission applicant files containing copies of applications for appointment in the Coast Guard Reserve are destroyed when 1 year old. (SSIC 1100, Item 3b, NC1-26-80-4, item 337b)

Recruiting office jackets of successful and unsuccessful applicants for enlistment are destroyed one year after enlistment or rejection. (SSIC 1100, Item 3a, NC1-26-80-4, item 337a) General information files with the recruiting and enlistment are destroyed after two years (SSIC 1100 item 4, NC1-26-76-2, Item 587).

System Manager and address:

Commander, United States Coast Guard Personnel Command, 2100 2nd Street, SW., Stop 7801, Washington, DC 20539.

Notification procedure:

Individuals seeking notification of and access to any record contained in this system of records, or seeking to contest its content, may submit a request in writing to the Commandant (CG-611), U.S. Coast Guard, Attn: FOIA Coordinator, 2100 2nd Street, SW., Stop 7101, Washington, DC 20593.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG will not be able to conduct an effective search, and your request may be denied due to lack of specificity or lack of compliance with applicable regulations.

Record access procedures:

See “Notification procedure” above.

Contesting record procedures:

See “Notification procedure” above.

Record source categories:

Records are obtained from USCG recruiting personnel and administrative staff. Medical personnel or private physicians providing consultations or patient history. Character and employee references. Educational institutions, staff and faculty members. Selective Service System. Local, state, and Federal law enforcement agencies. Prior or current military service records. Members of Congress. Other officials and employees of the Coast Guard, Department of Defense and components thereof, in the performance of their duties and as specified by current instructions and regulations promulgated by competent authority. Recruiting officials and individuals being recruited or who have been recruited by the United States Coast Guard, United States Marine Corps, United States Navy, and the United States Navy Bureau of Medicine.

Exemptions claimed for the system:

None.

Dated: July 8, 2011.
Mary Ellen Callahan,
Chief Privacy Officer, Department of Homeland Security.

[FR Doc. 2011-20225 Filed 8-9-11; 8:45 am]

BILLING CODE 9110-04-P